DEPARTMENT OF COMMERCE

Foreign-Trade Zones Board

[Order No. 1152]

Expansion of Foreign-Trade Zone 137, Loudoun County, VA, Area

Pursuant to its authority under the Foreign-Trade Zones Act of June 18, 1934, as amended (19 U.S.C. 81a-81u), the Foreign-Trade Zones Board (the Board) adopts the following Order:

Whereas, the Washington Dulles Foreign Trade Zone, Inc., grantee of Foreign-Trade Zone 137, submitted an application to the Board for authority to expand FTZ 137 to include three sites (402 acres) in the Winchester-Frederick County, Virginia, area (Sites 4-6), adjacent to the Washington DC Customs port of entry (FTZ Docket 46-99; filed 9/10/99; amended 12/29/00);

Whereas, notice inviting public comment was given in the Federal Register (64 FR 51291, 9/22/99) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 137 is approved, subject to the Act and the Board's regulations, including § 400.28.

Signed at Washington, DC, this 5th day of April 2001.
Timothy J. Hauser,
Acting Under Secretary for International Trade, Alternate Chairman.

[FR Doc. 01-9370 Filed 4-13-01; 8:45 am]

BILLING CODE 3510-DS-P